DEPARTMENT OF COMMERCE

International Trade Administration

[A-580-867]

Large Power Transformers From the Republic of Korea: Final Results of Antidumping Duty Administrative Review, Final Determination of No Shipments, and Final Successor-in-Interest Determination; 2018-2019

AGENCY: Enforcement and Compliance, International Trade Administration, Department of Commerce.

SUMMARY: The Department of Commerce (Commerce) determines that Hyosung Heavy Industries Corporation (Hyosung) made sales of large power transformers from the Republic of Korea (Korea) at less than normal value during the period of review (POR) August 1, 2018, through July 31, 2019.

DATES: Applicable June 10, 2021.

FOR FURTHER INFORMATION CONTACT: John Drury, AD/CVD Operations, Office VI, Enforcement and Compliance, International Trade Administration, U.S. Department of Commerce, 1401 Constitution Avenue NW, Washington, DC 20230; telephone: (202) 482-0195.

SUPPLEMENTARY INFORMATION:

Background

On December 18, 2020, Commerce published the Preliminary Results.¹ A summary of the events that occurred since Commerce published these Preliminary Results, as well as a full discussion of the issues raised by parties for these final results, may be found in the Issues and Decision Memorandum, which is hereby adopted by this notice.²

¹ See Large Power Transformers from the Republic of Korea: Preliminary Results of Antidumping Duty Administrative Review, 2018-2019; Preliminary Determination of No Shipments; and Preliminary Successor-in-Interest Determination, 85 FR 82439 (December 18, 2020) (Preliminary Results).

² See Memorandum, “Issues and Decision Memorandum for the Final Results of the Administrative Review of the Antidumping Duty Order on Large Power Transformers from the Republic of Korea; 2018-2019,” dated concurrently with this notice (Issues and Decision Memorandum).

The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html.

On March 31, 2021, Commerce extended the deadline for these final results of review until June 4, 2021.³

³ See Memorandum, “Large Power Transformers from the Republic of Korea; Antidumping Duty Administrative Review; 2018-2019: Extension of Deadline for Final Results,” dated March 31, 2021.

Scope of the Order

The scope of this order covers large liquid dielectric power transformers (LPTs) having a top power handling capacity greater than or equal to 60,000 kilovolt amperes (60 megavolt amperes), whether assembled or unassembled, complete or incomplete. The merchandise subject to the order is currently classified in the Harmonized Tariff Schedule of the United States at subheadings 8504.23.0040, 8504.23.0080, and 8504.90.9540. For a complete description of the scope of the order, see the accompanying Issues and Decision Memorandum.

Final Determination of No Shipments

In the Preliminary Results, Commerce determined that LSIS Co. Ltd. (LSIS) had no shipments of subject merchandise during the POR.⁴ No party commented on this issue and because we have not received any information to contradict our preliminary finding, we continue to find that LSIS did not have any shipments of subject merchandise during the POR and intend to issue appropriate instructions to U.S. Customs and Border Protection (CBP) based on the final results of this review.

⁴ See Preliminary Results.

Final Successor-in-Interest Determination

In the Preliminary Results, Commerce determined that LS Electric Co., Ltd. (LS Electric) is the successor-in-interest to LSIS.⁵ As no party commented on this issue and because we have not received any information to contradict our preliminary finding, we continue to find that LS Electric is the successor-in-interest to LSIS.

⁵ Id.

Analysis of Comments Received

All issues raised in the case and rebuttal briefs by parties to this administrative review are addressed in the Issues and Decision Memorandum. For a list of the issues raised by parties, see the Appendix to this notice.

Changes Since the Preliminary Results

Based on our review of the record and comments received from interested parties, we made certain changes to the margin calculations for Hyosung.⁶ As a result of these changes, the weighted-average dumping margin also changes for the companies not selected for individual examination.

⁶ See Issues and Decision Memorandum at Comment 3; see also Memorandum, “Analysis of Data Submitted by Hyosung Corporation in the Final Results of the 2018-2019 Administrative Review of the Antidumping Duty Order on Large Power Transformers from the Republic of Korea,” dated concurrently with this notice.

Final Results of the Review

The final weighted-average dumping margins are as follows:

Producer or exporter | Weighted- average dumping margin (percent)
Hyosung Heavy Industries Corporation | 52.47
Hyundai Electric & Energy Systems Co., Ltd | 52.47
Iljin Electric Co., Ltd | 52.47
Iljin | 52.47

Disclosure

We will disclose the calculations performed to parties in this proceeding within five days after the date of the public announcement of these final results of review, in accordance with 19 CFR 351.224(b).

Assessment Rate

Commerce shall determine, and CBP shall assess, antidumping duties on all appropriate entries.⁷ For any individually examined respondents whose weighted-average dumping margin is above de minimis, we calculated importer-specific ad valorem duty assessment rates based on the ratio of the total amount of dumping calculated for the importer's examined sales to the total entered value of those same sales, in accordance with 19 CFR 351.212(b)(1). Upon issuance of the final results of this administrative review, if any importer-specific assessment rates calculated in the final results are above de minimis (i.e., at or above 0.5 percent), Commerce will issue instructions directly to CBP to assess antidumping duties on appropriate entries.

⁷ In these final results, Commerce applied the assessment rate calculation method adopted in Antidumping Proceedings: Calculation of the Weighted-Average Dumping Margin and Assessment Rate in Certain Antidumping Proceedings: Final Modification, 77 FR 8101 (February 14, 2012).

To determine whether the duty assessment rates covering the period were de minimis, in accordance with the requirement set forth in 19 CFR 351.106(c)(2), for each respondent we calculated importer (or customer)-specific ad valorem rates by aggregating the amount of dumping calculated for all U.S. sales to that importer or customer and dividing this amount by the total entered value of the sales to that importer (or customer). Where an importer (or customer)-specific ad valorem rate is greater than de minimis, and the respondent has reported reliable entered values, we will apply the assessment rate to the entered value of the importer's/customer's entries during the POR.

Consistent with its recent notice,⁸ Commerce intends to issue appropriate assessment instructions directly to CBP no earlier than 35 days after the date of publication of the final results of this review in the Federal Register. If a timely summons is filed at the U.S. Court of International Trade, the assessment instructions will direct CBP not to liquidate relevant entries until the time for parties to file a request for a statutory injunction has expired (i.e., within 90 days of publication).

⁸ See Notice of Discontinuation of Policy to Issue Liquidation Instructions After 15 Days in Applicable Antidumping and Countervailing Duty Administrative Proceedings, 86 FR 3995 (January 15, 2021).

Cash Deposit Requirements

The following cash deposit requirements will be effective upon publication of this notice for all shipments of subject merchandise entered, or withdrawn from warehouse, for consumption on or after the publication of these final results, as provided by section 751(a)(2) of the Act: (1) The cash deposit rate for respondents noted above will be equal to the weighted-average dumping margins established in the final results of this administrative review; (2) for merchandise exported by producers or exporters not covered in this administrative review but covered in a prior segment of the proceeding, the cash deposit rate will continue to be the company specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 22.00 percent, the all-others rate established in the less-than-fair-value investigation.⁹ These cash deposit requirements, when imposed, shall remain in effect until further notice.

⁹ See Large Power Transformers from the Republic of Korea: Antidumping Duty Order, 77 FR 53177 (August 31, 2012).

As explained above, we find that LS Electric has provided sufficient evidence, based on the totality of the circumstances under Commerce's successor-in-interest criteria, to demonstrate that LS Electric is the successor-in-interest to LSIS. Accordingly, we intend to instruct CBP to continue collecting deposits from LS Electric, and any entries of merchandise produced by LS Electric, at the rate assigned to LSIS.

Notification to Importers Regarding the Reimbursement of Duties

This notice also serves as a final reminder to importers of their responsibility under 19 CFR 351.402(f) to file a certificate regarding the reimbursement of antidumping and/or countervailing duties prior to liquidation of the relevant entries during the POR. Failure to comply with this requirement could result in Commerce's presumption that reimbursement of antidumping and/or countervailing duties did occur and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.213(h) and 19 CFR 351.221(b)(5).

Dated: June 3, 2021.
Christian Marsh,
Acting Assistant Secretary for Enforcement and Compliance.

Appendix

List of Topics Discussed in the Issues and Decision Memorandum

I. Summary

II. Background

III. Scope of the Order

IV. Successor-in-Interest

V. No Shipments

VI. Discussion of the Issues

A. Hyosung-Specific Issues

Comment 1: Sales Outside of the Ordinary Course of Trade

Comment 2: Date of Sale

Comment 3: Ministerial Errors

B. General Issues

Comment 4: Rate for Non-selected Respondents

VII. Recommendation

[FR Doc. 2021-12185 Filed 6-9-21; 8:45 am]

BILLING CODE 3510-DS-P